DEPARTMENT OF THE INTERIOR

National Park Service

[NPS-WASO-NRNHL-1011-8767; 2200-3200-665]

National Register of Historic Places; Notification of Pending Nominations and Related Actions

Nominations for the following properties being considered for listing or related actions in the National Register were received by the National Park Service before October 21, 2011. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington DC 20005; or by fax, (202) 371-6447. Written or faxed comments should be submitted by November 25, 2011. Before including your address, phone number, email address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

COLORADO

Grand County

Kenjockety, Address Restricted, Rand, 11000858

DELAWARE

Sussex County

McColley's Chapel, 18168 Redden Rd., Georgetown, 11000859

FLORIDA

Monroe County

Alligator Reef Light, (Light Stations of the United States MPS) Offshore 3.5 mi. S. of Upper Matecumbe Key, Islamorada, 11000860

Orange County

Interlachen Avenue Historic District, Roughly bounded by S. Knowles, E. New England, S. Interlachen Aves., E. Morse Blvd., Lincoln & E. Canton Aves., Winter Park, 11000861

IDAHO

Latah County

Lawrence, Russell, Farmstead, (Agricultural Properties of Latah County, Idaho MPS) 5471 ID 8, Deary, 11000862

MICHIGAN

Berrien County

Buchanan North and West Neighborhoods Historic District, Roughly bounded by Main, 4th, Chippewa, W. Front, S. Detroit, Chicago, Clark, Roe & Charles Sts., Buchanan, 11000863

Ingham County

Michigan State Medical Society Building, 120 W. Saginaw St., East Lansing, 11000864

Mackinac County

Hiawatha Sportsman's Club 1931 Maintenance Building and Commissary, Lake Blvd. (Garfield Township), Millecoquins, 11000865

Manitou Lodge, G Trail, Hiawatha Sportman's Club (Garfield Township), Naubinway, 11000866

Wayne County

Nacirema Club, 6118 30th St., Detroit, 11000867

MISSISSIPPI

Carroll County

Midway Methodist Church and Cemetery, Cnty. Rd. 31, Vaiden, 11000868

Jackson County

International Ship Building Company, Roughly bounded by Columbus Dr., Yazoo Lake, Garfield, Monroe, & Gen. Lee Sts. & Wright, Lafayette, & McKinley Aves., Pascagoula, 11000869

Lincoln County

Cohn, Emile, House, 536 S. Jackson St., Brookhaven, 11000870

MONTANA

Missoula County

University of Montana Historic District (Boundary Increase), 32 Campus Dr., Missoula, 11000871

NEW JERSEY

Mercer County

Bear Tavern Road—Jacob's Creek Crossing Rural Historic District, Bear Tavern Rd. & Jacobs Creek Rd. (Hopewell & Ewing Townships), Somerset, 11000872

VIRGINIA

Fauquier County

Auburn Battlefield, (Civil War in Virginia MPS) Bounded by Casanova, Auburn Baptist Church, & Catlett, Catlett, 11000873

Shenandoah County

Forestville Historic District, Jct. of VA 42, 614 & 767, Forestville, 11000874

WYOMING

Hot Springs County

Kirby Jail and Town Hall, 120 E. 4th St., Kirby, 11000875

[FR Doc. 2011-28976 Filed 11-8-11; 8:45 am]

BILLING CODE 4312-51-P